DEPARTMENT OF DEFENSE

Department of the Navy

Notice of Intent To Grant Exclusive Patent License; CorActive High Tech, Inc.

AGENCY: Department of the Navy, DOD.

ACTION: Notice.

SUMMARY: The Department of the Navy hereby gives notice of its intent to grant to CorActive High Tech, Inc., a revocable, nonassignable, exclusive license to practice in the field of chalcogenide optical fibers in the United States and certain foreign countries, the Government-owned inventions described in U.S. Patent No. 5,735,927: Method for Producing Core/Cladding Glass Optical Fiber Preforms Using Hot Isostatic Pressing; Navy Case No. 76,989//U.S. Patent No. 5,778,125: Optical Fiber Terminations, Navy Case No. 77,790//U.S. Patent No. 5,779,757: Process for Removing Hydrogen and Carbon Impurities from Glasses by Adding a Tellurium Halide, Navy Case No. 77,216//U.S. Patent No. 5,879,426: Process for Making Optical Fibers from Core and Cladding Glass Rods, Navy Case No. 77,577//U.S. Patent No. 5,900,036: Multi-Cylinder Apparatus for Making Optical Fibers, Process and Product, Navy Case No. 76,981//U.S. Patent No. 5,953,478: Metal-Coated IR-transmitting Chalcogenide Glass Fibers, Navy Case No. 77,806//U.S. Patent No. 6,021,649: Apparatus for Making Optical Fibers from Core and Cladding Glass Rods with Two Coaxial Molten Glass Flows, Navy Case No. 79,632//U.S. Patent No. 6,175,678: Infrared Fiber Imager, Navy Case No. 79,823//U.S. Patent No. 6,526,782: Multi-Heating Zone Apparatus and Process for Making Core/Clad Glass Fibers, Navy Case No. 82,941// U.S. Patent Application Serial No. 10/632,210: Hollow Core Photonic Band Gap (HCPBG) Infrared Fiber Sensors, Navy Case No. 84,395.

DATES: Anyone wishing to object to the grant of this license must file written objections along with supporting evidence, if any, not later than December 30, 2003.

ADDRESSES: Written objections are to be filed with the Naval Research Laboratory, Code 1004, 4555 Overlook Avenue, SW., Washington, DC 20375-5320.

FOR FURTHER INFORMATION CONTACT: Ms. Jane F. Kuhl, Technology Transfer Office, NRL Code 1004, 4555 Overlook Avenue, SW., Washington, DC 20375-5320, telephone (202) 767-7230. Due to U.S. Postal delays, please fax (202) 404-7920, E-Mail: kuhl@nrl.navy.mil or use courier delivery to expedite response.

(Authority: 35 U.S.C. 207, 37 CFR Part 404.)

Dated: December 9, 2003.
S. K. Melancon,
Paralegal Specialist, Office of the Judge Advocate General, Alternate Federal Register Liaison Officer.

[FR Doc. 03-30852 Filed 12-12-03; 8:45 am]

BILLING CODE 3810-FF-P